NATIONAL AERONAUTICS AND SPACE ADMINISTRATION

[Notice 03-140]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: November 4, 2003.

FOR FURTHER INFORMATION CONTACT: Randy Heald, Patent Counsel, Kennedy Space Center, Mail Code CC-A, Kennedy Space Center, FL 32899; telephone (321) 867-7214; fax (321) 867-1817.

NASA Case No. KSC-12518: Hydrogen Peroxide Catalytic Decomposition;

NASA Case No. KSC-12540: High Performance Immobilized Liquid Membranes for Carbon Dioxide Separations.

Dated: October 29, 2003.
Robert M. Stephens,
Deputy General Counsel.

[FR Doc. 03-27683 Filed 11-3-03; 8:45 am]

BILLING CODE 7510-01-P